DEPARTMENT OF LABOR

Employment and Training Administration

[NAFTA-04867]

GE Harris Harmon Railway Technology Corp., Formerly Harmon Industries, Inc., Jacksonville, FL; Amended Certification Regarding Eligibility To Apply for NAFTA—Transitional Adjustment Assistance

In accordance with Section 250(A), Subchapter D, Chapter 2, Title II, of the Trade Act of 1974 (19 U.S.C 2273), the Department of Labor issued a Certifcation for NAFTA Transitional Adjustment Assistance on August 21, 2001, applicable to workers of GE Harris Harmon Railway Technology, Jacksonville, Florida. The notice was published in the Federal Register on September 11, 2001 (66 FR 47243).

At the request of the State agency, the Department received the certification for workers of the subject firm. The workers were engaged in activity related to the production of railway signaling equipment. New information shows that the Department inadvertently failed to identify the subject firm title name in its entirety.

The Department is amending the certification determination to correctly identify the subject firm title name to read GE Harris Harmon Railway Technology, Formerly, Harmon Industries, Inc.

Accordingly, the Department is amending the certification to properly reflect this matter.

The amended notice applicable to NAFTA-04867 is hereby issued as follows:

All workers of GE Harris Harmon Railway Technology, formerly Harmon Industries, Inc., Jacksonville, Florida, who became totally or partially separated from employment on or after March 7, 2000, through August 21, 2003, are eligible to apply for NAFTA-TAA under Section 250 of the Trade Act of 1974.

Signed at Washington, DC, this 28th day of September, 2001.
Linda G. Poole,
Certifying Officer, Division of Trade Adjustment Assistance.

[FR Doc. 01-26347 Filed 10-18-01; 8:45 am]

BILLING CODE 4510-30-M